DEPARTMENT OF TRANSPORTATION

National Highway Traffic Safety Administration

49 CFR Part 571

[DOT Docket No. NHTSA-05-23407]

RIN 2127-AJ74

Federal Motor Vehicle Safety Standards; Transmission Shift Position Sequence, Starter Interlock, and Transmission Braking Effect

AGENCY: National Highway Traffic Safety Administration (NHTSA), DOT.

ACTION: Final rule; response to petitions for reconsideration; delay of effective date.

SUMMARY: This document responds to petitions for reconsideration of a final rule published on July 1, 2005, which amended the Federal motor vehicle safety standard that includes starter interlock requirements. The final rule announced an effective date of December 28, 2005. NHTSA received petitions for reconsideration from General Motors (GM) requesting a delay in the effective date in the final rule, and a petition from International Truck and Engine Corporation (ITEC) requesting an amendment that addresses hybrid electric systems on trucks with a gross vehicle weight rating over 4,536 kg (10,000 pounds).

In this final rule, NHTSA grants both of these petitions, and is amending the standard accordingly.

DATES: The effective date of the rule amending 49 CFR 571.102 published at 70 FR 38040, July 1, 2005, is delayed until September 1, 2007. The final rule amending 49 CFR Section 571.102 published today is effective September 1, 2007.

Optional early compliance with these final rules is available as of December 22, 2005.

Any petitions for reconsideration of today's final rule must be received by NHTSA not later than February 6, 2006.

ADDRESSES: Petitions for reconsideration should refer to the docket number for this section and be submitted to: Administrator, National Highway Traffic Safety Administration, 400 Seventh Street, SW., Washington, DC 20590.

FOR FURTHER INFORMATION CONTACT: For non-legal issues, you may call Mr. William Evans, Office of Crash Avoidance Standards at (202) 366-2272. His FAX number is (202) 366-7002.

For legal issues, you may call Ms. Dorothy Nakama, Office of the Chief Counsel at (202) 366-2992. Her FAX number is (202) 366-3820.

You may send mail to both of these officials at National Highway Traffic Safety Administration, 400 Seventh St., SW., Washington, DC, 20590.

SUPPLEMENTARY INFORMATION:

Background

At present, the starter interlock requirement of Federal Motor Vehicle Safety Standard (FMVSS) No. 102, Transmission shift position sequence, starter interlock, and transmission braking effect (at S3.1.3) states “the engine starter shall be inoperative when the transmission shift lever is in a forward or reverse drive position.” The purpose of this requirement is to prevent injuries and death from the unexpected motion of a vehicle when the driver starts the vehicle with the transmission inadvertently in a forward or reverse gear.

Final Rule of July 1, 2005

In a final rule of July 1, 2005 (70 FR 38040), FMVSS No. 102 was amended to accommodate the new technologies represented by hybrid/electric systems. With respect to vehicles with automatic transmissions, the rule makes it clear that after activation of the vehicle's propulsion system by the driver, the engine may stop and restart automatically when the transmission shift position is in any forward drive gear. The rule prohibits the engine from automatically stopping in reverse gear. When the engine is automatically stopped in a forward drive shift position and the driver selects Reverse, the engine is permitted to restart automatically in Reverse if two conditions are satisfied. The first condition is that the engine must restart immediately whenever the service brake is applied. The second condition is that the engine does not start automatically if the service brake is not applied.

The rule also provides, notwithstanding these limitations, that the engine may stop and start at any time after the driver has activated the vehicle's propulsion system if: (a) The vehicle's propulsion system can propel the vehicle in the normal travel mode in all forward and reverse drive gears without the engine operating, and (b) if the engine automatically starts while the vehicle is traveling at a steady speed and steady accelerator control setting, the engine does not cause the vehicle to accelerate.

The final rule announced an effective date of December 28, 2005.

Petitions for Reconsideration

In response to the final rule, NHTSA received petitions for reconsideration of the July 1, 2005 final rule from General Motors Corporation (GM) and the International Truck and Engine Corporation (ITEC). The following describes the petitions and how we have addressed the issues raised in the petitions:

A. GM's Petitions

The July 1, 2005 final rule announced an effective date of December 28, 2005. In a petition dated September 14, 2005, GM requested that the effective date of the final rule be delayed until September 1, 2007.¹ GM explained that in 2004, it began producing a “Parallel Hybrid Truck” (PHT) that incorporates idle-stop technology in that the engine shuts off when the vehicle is stopped and the engine restarts when the brake pedal is released. GM asserted that this system eliminates needless idle time, improving fuel economy and reducing emissions. At present, the PHT is designed so that a rapid process of releasing the brake pedal and selecting Reverse will permit the engine to start in Reverse while the brake is released. GM stated that this action appears to be “inconsistent with S3.1.3.1(c)(2).” GM stated it is evaluating possible modifications to the PHT system to comply with S3.1.3.1(c) and asked for a delay in the effective date until September 1, 2007.

¹ GM submitted two petitions for reconsideration, one dated August 15, 2005, and another dated September 14, 2005. Since the September 14, 2005 petition superseded the earlier one, we are addressing only the issue raised in the September 14, 2005 petition.

NHTSA has carefully reviewed GM's request. GM must modify its PHT system in order to meet the July 1, 2005 final rule's new requirements for starter interlock systems and needs additional time to comply. We were not aware of this need for leadtime when we issued the July 2005 final rule. Accordingly, NHTSA will delay the effective date of the final rule until September 1, 2007. To prevent this final rule; “response to petitions for reconsideration” from affecting those manufacturers ready to meet the original effective date, NHTSA is permitting optional early compliance with the July 1, 2005 final rule and the amendments made in this final rule as of the date this document is published in the Federal Register.

B. ITEC Petition

A petition from ITEC requested an amendment to S3.1.3.2(a) of the July 1, 2005 final rule. ITEC explained that it is developing a hybrid electric system for large trucks, which would allow the trucks to operate strictly on an electric motor in Reverse gear and in the lower forward gears. Large trucks would thus be able to automatically stop their engines during applications with frequent stopping and starting, such as pickup and delivery, and to run only on the electric motor, eliminating needless engine idling and reducing fuel consumption, emissions, and noise. The engine automatically starts and runs continuously in the higher gears at normal highway speeds. In the final rule of July 1, 2005, S3.1.3.2(a) requires that the propulsion system propel the vehicle in all forward and reverse gears without the engine operating.

ITEC indicated that its system does not meet the requirements in S3.1.3.2(a) in that its system propels the vehicle in Reverse and the lower forward gears (not all forward gears) without the engine operating. ITEC requested that S3.1.3.2 be amended to require the propulsion system in vehicles with a GVWR greater than 4,536 kg (10,000 pounds) to propel the vehicle in “any” forward or reverse drive gears without the engine operating.

In S3.1.3.2 of the final rule, NHTSA addresses hybrid vehicles that operate primarily as electric vehicles and that use an internal combustion engine to assist when additional motive power is needed or the batteries need charging. Vehicles that meet S3.1.3.2 are excluded from the engine starting requirements of S3.1.3.1. The final rule allows vehicles meeting S3.1.3.2 to automatically stop and start the engine at any time after the driver has activated the vehicle's propulsion system if:

(a) The vehicle's propulsion system can propel the vehicle in the normal travel mode in all forward and reverse drive gears without the engine operating; and

(b) If the engine automatically starts while the vehicle is traveling at a steady speed and a steady accelerator control setting, the engine does not cause the vehicle to accelerate.

The system described by ITEC would meet the requirements of S3.1.3.2 except for the fact that the propulsion system is only capable of propelling the vehicle in Reverse and the low forward gears instead of all forward and reverse gears. Upon review, NHTSA has decided to amend the standard along the lines requested by ITEC. Amending S3.1.3.2(a) takes into account the special features of hybrid electric vehicles with GVWRs greater than 4,536 kg (10,000 pounds) that distinguish them from smaller vehicles, and minimizes design limits on heavy vehicles, that have a wider range of applications than do lighter vehicles. NHTSA does not foresee any safety implications with amending S3.1.3.2(a) in the way that ITEC intends.

NHTSA believes that it is important that a hybrid propulsion system that falls under the requirements of S3.1.3.2 be capable of propelling the vehicle in Reverse and at least one forward drive gear without the engine operating. If the propulsion system cannot propel the vehicle in Reverse without the engine operating, it would have implications with S3.1.3.1 when the engine was stopped in a forward gear and the brake pedal was rapidly released while Reverse was selected.

For these reasons, NHTSA is amending S3.1.3.2 for hybrid electric vehicles over 4,536 kg (10,000 pounds) GVWR. To effectuate ITEC's intent in its petition for reconsideration, in this final rule; response to petitions for reconsideration, S3.1.3.2(a) is amended to require that propulsion systems on vehicles with a GVWR greater than 4,536 kg must be capable of propelling the vehicle in the normal travel mode in Reverse and at least one forward drive gear without the engine operating.

Statutory Bases for the Final Rule

We have issued this final rule pursuant to our statutory authority. Under 49 U.S.C. Chapter 301, Motor Vehicle Safety (49 U.S.C. 30101 et seq.), the Secretary of Transportation is responsible for prescribing motor vehicle safety standards that are practicable, meet the need for motor vehicle safety, and are stated in objective terms. 49 U.S.C. 30111(a). When prescribing such standards, the Secretary must consider all relevant, available motor vehicle safety information. 49 U.S.C. 30111(b). The Secretary must also consider whether a proposed standard is reasonable, practicable, and appropriate for the type of motor vehicle or motor vehicle equipment for which it is prescribed and the extent to which the standard will further the statutory purpose of reducing traffic accidents and deaths and injuries resulting from traffic accidents. Id. Responsibility for promulgation of Federal motor vehicle safety standards was subsequently delegated to NHTSA. 49 U.S.C. 105 and 322; delegation of authority at 49 CFR 1.50.

As a Federal agency, before promulgating changes to a Federal motor vehicle safety standard, NHTSA also has a statutory responsibility to follow the informal rulemaking procedures mandated in the Administrative Procedure Act at 5 U.S.C. Section 553. Among these requirements are Federal Register publication of a general notice of proposed rulemaking, and giving interested persons an opportunity to participate in the rulemaking through submission of written data, views or arguments. After consideration of the public comments, we must incorporate into the rules adopted, a concise general statement of the rule's basis and purpose.

The agency has carefully considered these statutory requirements in promulgating this final rule to amend FMVSS No. 102. As previously discussed in detail, we have solicited public comment in an NPRM and have carefully considered the public comments before issuing this final rule. As a result, we believe that this final rule reflects consideration of all relevant available motor vehicle safety information. Consideration of all these statutory factors has resulted in the following decisions in this final rule; “response to petitions for reconsideration:” To extend the effective date of the July 1, 2005 final rule to September 1, 2007, and to amend the starter interlock system requirement so that for vehicles with a GVWR greater than 4,536 kg (10,000 pounds), the engine may stop and start at any time after the driver has activated the vehicle's propulsion system if the vehicle's propulsion system can propel the vehicle in the normal travel mode in Reverse and at least one forward drive gear without the engine operating.

Regulatory Analyses and Notices

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking action under Executive Order 12866 and the Department of Transportation's regulatory policies and procedures. This rulemaking document was not reviewed by the Office of Management and Budget under E.O. 12866, “Regulatory Planning and Review.” The rulemaking action is also not considered to be significant under the Department's Regulatory Policies and Procedures (44 FR 11034; February 26, 1979).

To ensure that manufacturers have time needed to make changes to current vehicles in order to meet the new requirements, we have delayed the effective date of the final rule to September 1, 2007. In addition, we are making a small change to ensure that the amended requirements are appropriate for heavy vehicles. As a result, the impacts are so minimal that a full regulatory evaluation has not been prepared.

B. Executive Order 13132 (Federalism)

Executive Order 13132 requires us to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, we may not issue a regulation with Federalism implications, that imposes substantial direct compliance costs, and that is not required by statute, unless the Federal government provides the funds necessary to pay the direct compliance costs incurred by State and local governments, or unless we consult with State and local governments, or unless we consult with State and local officials early in the process of developing the proposed regulation. We also may not issue a regulation with Federalism implications and that preempts State law unless we consult with State and local officials early in the process of developing the proposed regulation.

This rule will not have substantial direct effects on the States, on the relationship between the national government and the States, or on the distribution of power and responsibilities among the various levels of government, as specified in Executive Order 13132. The reason is that this final rule applies to motor vehicle manufacturers, and not to the States or local governments. Thus, the requirements of Section 6 of the Executive Order do not apply.

C. Executive Order 13045 (Economically Significant Rules Disproportionately Affecting Children)

Executive Order 13045 (62 FR 19885, April 23, 1997) applies to any rule that: (1) Is determined to be “economically significant” as defined under E.O. 12866, and (2) concerns an environmental, health or safety risk that NHTSA has reason to believe may have a disproportionate effect on children. If the regulatory action meets both criteria, we must evaluate the environmental health or safety effects of the rule on children, and explain why the regulation is preferable to other potentially effective and reasonably feasible alternatives considered by us.

This rule is not subject to the Executive Order because it is not economically significant as defined in E.O. 12866 and does not involve decisions based on environmental, health or safety risks that disproportionately affect children.

D. Executive Order 12988 (Civil Justice Reform)

Pursuant to Executive Order 12988, “Civil Justice Reform,” we have considered whether this rule has any retroactive or preemptive effect. We conclude that it would not have any retroactive effect. Under 49 U.S.C. 30103, whenever a Federal motor vehicle safety standard is in effect, a State may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

E. Regulatory Flexibility Act

Pursuant to the Regulatory Flexibility Act (5 U.S.C. 601 et seq., as amended by the Small Business Regulatory Enforcement Fairness Act (SBREFA) of 1996) whenever an agency is required to publish a notice of rulemaking for any proposed or final rule, it must prepare and make available for public comment a regulatory flexibility analysis that describes the effect of the rule on small entities (i.e., small businesses, small organizations, and small governmental jurisdictions). However, no regulatory flexibility analysis is required if the head of an agency certifies the rule would not have a significant economic impact on a substantial number of small entities. SBREFA amended the Regulatory Flexibility Act to require Federal agencies to provide a statement of the factual basis for certifying that a rule would not have a significant economic impact on a substantial number of small entities.

The Administrator has considered the effects of this rulemaking action under the Regulatory Flexibility Act (5 U.S.C. 601 et seq.) and certifies that this final rule will not have a significant economic impact on a substantial number of small entities. The statement of the factual basis for the certification is that since this rulemaking makes no substantive changes in the scope of FMVSS No. 102, small manufacturers of passenger cars, multipurpose passenger vehicles, trucks or buses need not make any changes in vehicle manufacturing processes or procedures to ensure that their vehicles meet an amended FMVSS No. 102. Accordingly, the agency concludes that this final rule does not affect the costs of motor vehicle manufacturers considered to be small business entities.

F. National Environmental Policy Act

We have analyzed this rule for the purposes of the National Environmental Policy Act and determined that it would not have any significant impact on the quality of the human environment.

G. Paperwork Reduction Act

NHTSA has determined that this final rule will not impose any “collection of information” burdens on the public, within the meaning of the Paperwork Reduction Act of 1995 (PRA). This rulemaking action does not impose any filing or recordkeeping requirements on any manufacturer or any other party. For this reason, we discuss neither electronic filing and recordkeeping nor do we discuss a fully electronic reporting option.

H. National Technology Transfer and Advancement Act

Section 12(d) of the National Technology Transfer and Advancement Act of 1995 (NTTAA), Public Law 104-113, section 12(d) (15 U.S.C. 272) directs us to use voluntary consensus standards in our regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

After conducting a search of available sources (including data from International Organization of Standards or other standards bodies), we have determined that there are not any available and applicable voluntary consensus standards that we can use in this final rule.

I. Unfunded Mandates Reform Act

Section 202 of the Unfunded Mandates Reform Act of 1995 (UMRA) requires Federal agencies to prepare a written assessment of the costs, benefits and other effects of proposed or final rules that include a Federal mandate likely to result in the expenditure by State, local or tribal governments, in the aggregate, or by the private sector, of more than $100 million in any one year (adjusted for inflation with base year of 1995). Before promulgating a NHTSA rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if we publish with the final rule an explanation why that alternative was not adopted.

This final rule will not result in costs of $100 million or more to either State, local, or tribal governments, in the aggregate, or to the private sector. Thus, this rule is not subject to the requirements of sections 202 and 205 of the UMRA.

J. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make this rulemaking easier to understand?

If you have any responses to these questions, please include them in your comments to the docket number cited in the heading of this final rule.

K. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

List of Subjects in 49 CFR Part 571

Imports, Motor vehicle safety, Motor vehicles, Rubber and rubber products, Tires.

In consideration of the foregoing, the Federal Motor Vehicle Safety Standards (49 CFR Part 571), are amended as set forth below.

PART 571—FEDERAL MOTOR VEHICLE SAFETY STANDARDS

1. The authority citation for part 571 continues to read as follows:

Authority: 49 U.S.C. 322, 30111, 30115, 30117, and 30166; delegation of authority at 49 CFR 1.50.

2. Section 571.102 is amended by revising in S3.1.3.2, the introductory text and paragraph (a) to read as follows:

§ 571.102 Standard No. 102; Transmission shift position sequence, starter interlock, and transmission braking effect.

* * * * *

S3.1.3.2 Notwithstanding S3.1.3.1, the engine may stop and start at any time after the driver has activated the vehicle's propulsion system if the vehicle can meet the requirements specified in paragraphs (a) and (b):

(a) For passenger cars, multi-purpose passenger vehicles, trucks and buses with a GVWR less than or equal to 4,536 kg (10,000 pounds), the vehicle's propulsion system can propel the vehicle in the normal travel mode in all forward and reverse drive gears without the engine operating. For passenger cars, multipurpose passenger vehicles, trucks and buses with a GVWR greater than 4,536 kg (10,000 pounds), the vehicle's propulsion system can propel the vehicle in the normal travel mode in Reverse and at least one forward drive gear without the engine operating.

* * * * *

Issued on: December 19, 2005.
Jacqueline Glassman,
Deputy Administrator.

[FR Doc. 05-24372 Filed 12-21-05; 8:45 am]

BILLING CODE 4910-59-P